DEPARTMENT OF THE INTERIOR

Minerals Management Service

Agency Information Collection Activities: Submitted for Office of Management and Budget (OMB) Review; Comment Request

AGENCY: Minerals Management Service (MMS), Interior.

ACTION: Notice of a new information collection (1010-NEW).

SUMMARY: To comply with the Paperwork Reduction Act of 1995 (PRA), we are notifying the public that we have submitted to OMB an information collection request (ICR) for a new approval of the paperwork requirements that address the narrative portion only of MMS's Coastal Impact Assistance Program (CIAP) which is a grant program.

The Energy Policy Act of 2005 gave responsibility to MMS for CIAP by amending Section 31 of the Outer Continental Shelf Lands Act (43 U.S.C. 1356a; Appendix A).

This notice also provides the public a second opportunity to comment on the paperwork burden of these regulatory requirements.

DATES: Submit written comments by November 20, 2006.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1010-NEW).

Submit a copy of your comments to the Department of the Interior, MMS, via:

• MMS's Public Connect on-line commenting system, https://ocsconnect.mms.gov. Follow the instructions on the Web site for submitting comments.

• E-mail MMS at rules.comments@mms.gov. Use Information Collection Number 1010-NEW, CIAP, in the subject line.

• Fax: 703-787-1093. Identify with Information Collection Number 1010-NEW, CIAP.

• Mail or hand-carry comments to the Department of the Interior; Minerals Management Service; Attention: Rules Processing Team (RPT); 381 Elden Street, MS-4024; Herndon, Virginia 20170-4817. Please reference “Information Collection 1010-NEW, CIAP” in your comments.

FOR FURTHER INFORMATION CONTACT: Cheryl Blundon, Rules Processing Team, (703) 787-1600. You may also contact Cheryl Blundon to obtain a copy, at no cost, of the ICR and the authority that require the subject collection of information.

SUPPLEMENTARY INFORMATION: Title: Coastal Impact Assistance Program.

OMB Control Number: 1010-NEW.

Abstract: With the passage of the Energy Policy Act of 2005 (EPAct), the Minerals Management Service (MMS) was given responsibility for the Coastal Impact Assistance Program (CIAP) through the amendment of Section 31 of the Outer Continental Shelf Lands Act (43 U.S.C. 1356a Appendix A). The program was authorized for FY 2007, 2008, 2009, and 2010.

The CIAP recognizes that impacts from Outer Continental Shelf (OCS) oil and gas activities fall disproportionately on the coastal states and localities nearest to where the activities occur, and where associated facilities are located. The CIAP legislation appropriates money for eligible states and coastal political subdivisions for coastal restoration/improvement projects. MMS shall disburse $250 million for each FY 2007 through 2010 to eligible producing states and coastal political subdivisions (CPSs) through a grant program. The funds allocated to each state are based on the proportion of qualified OCS revenues offshore the individual state to total qualified OCS revenues from all states. In order to receive funds, the states submit CIAP narratives detailing how the funds will be expended. Alabama, Alaska, California, Louisiana, Mississippi, and Texas are the only eligible states under EPAct. Counties, parishes, or equivalent units of government within those states lying all or in part within the coastal zone, as defined by section 304(1) of the Coastal Zone Management Act (CZMA) 1972, as amended, are the coastal political subdivisions eligible for CIAP funding, a total of 67 local jurisdictions.

To approve a plan, legislation requires that the Secretary of the Interior must be able to determine that the funds will be used in accordance with EPAct criteria and that projects will use the funds according to the EPAct. To confirm appropriate use of funds, MMS requires affirmation of grantees meeting Federal, state, and local laws and adequate project descriptions. To accomplish this, MMS is providing in its CIAP Environmental Assessment a suggested narrative format to be followed by each applicant for a CIAP grant. This narrative will assist MMS in its review of applications to determine that adequate and appropriate measures were taken to meet the laws that affect the proposed coastal projects. This narrative will be submitted electronically as part of the grant application. At that time, applicants will be obliged to fill out several OMB-approved standard forms as well. Most of the eligible states and CPSs, as experienced grant applicants, will be familiar with this narrative request.

This information collection request (ICR) addresses the narrative portion only of the MMS CIAP grant program.

Frequency: On occasion.

Estimated Number and Description of Respondents: Approximately 73 total respondents. This includes 6 states and 67 boroughs, parishes, etc.

Estimated Reporting and Recordkeeping “Hour” Burden: The estimated annual “hour” burden for this information collection is a total of 12,600 hours. In calculating the burdens, we assumed that respondents perform certain requirements in the normal course of their activities. We consider these to be usual and customary and took that into account in estimating the burden. There are approximately six states and 67 parishes, boroughs, counties, etc. Submissions are generally on an occasion basis. The estimated annual “hour” burden for this information collection is a total of 12,600 hours. We expect each project narrative will take 42 hours to complete. We anticipate an average of 300 projects per year. Based on a cost factor of $50 per hour, we estimate the total annual cost to industry is $630,000 (42 hrs × 300 projects = 12,600 hrs × $50 per hour = $630,000).

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process according to section 3506(c)(2)(A) of the PRA (44 U.S.C. 3501, et seq.), we published a Federal Register notice (71 FR 29666, May 23, 2006) outlining the collection of information and announcing that we would submit this ICR to OMB for approval. The notice provided the required 60-day comment period. We have received no comments in response to this effort.

If you wish to comment in response to this notice, you may send your comments to the offices listed under the ADDRESSES section of this notice. OMB has up to 60 days to approve or disapprove the information collection but may respond after 30 days.

Therefore, to ensure maximum consideration, OMB should receive public comments by November 20, 2006.

Public Comment Procedures: MMS's practice is to make comments, including names and addresses of respondents, available for public review. If you wish your name and/or address to be withheld, you must state this prominently at the beginning of your comment. MMS will honor the request to the extent allowable by the law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz (202) 208-7744.

Dated: August 2, 2006.
E.P. Danenberger,
Chief, Office of Offshore Regulatory Programs.

[FR Doc. E6-17514 Filed 10-18-06; 8:45 am]

BILLING CODE 4310-MR-P